DEPARTMENT OF TRANSPORTATION

Federal Aviation Administration

14 CFR Part 39

[Docket No. FAA-2006-25047; Directorate Identifier 2006-NM-028-AD; Amendment 39-14759; AD 2006-19-02]

RIN 2120-AA64

Airworthiness Directives; Airbus Model A300 B4-600, B4-600R, and F4-600R Series Airplanes, and Model A300 C4-605R Variant F Airplanes (Collectively Called A300-600 Series Airplanes)

AGENCY: Federal Aviation Administration (FAA), Department of Transportation (DOT).

ACTION: Final rule.

SUMMARY: The FAA is superseding an existing airworthiness directive (AD), which applies to certain Airbus Model A300-600 series airplanes. That AD currently requires repetitive eddy current inspections to detect cracks of the outer skin of the fuselage at certain frames, and repair or reinforcement of the structure at the frames, if necessary. That AD also requires eventual reinforcement of the structure at certain frames, which, when accomplished, terminates the repetitive inspections. This new AD requires, for airplanes that were previously reinforced but not repaired in accordance with the existing AD, a one-time inspection for cracking of the fuselage outer skin at frames 28A and 30A above stringer 30, and repair if necessary. This AD results from a report that the previously required actions were not sufficient to correct cracking before the structural reinforcement was installed. We are issuing this AD to prevent such fatigue cracking, which could result in reduced structural integrity, and consequent rapid decompression of the airplane.

DATES: This AD becomes effective October 17, 2006.

The Director of the Federal Register approved the incorporation by reference of certain publications listed in the AD as of October 17, 2006.

On August 4, 1997 (62 FR 35072, June 30, 1997), the Director of the Federal Register approved the incorporation by reference of Airbus Service Bulletin A300-53-6045, dated March 21, 1995, as revised by Change Notice No. O.A., dated June 1, 1995; and Airbus Service Bulletin A300-53-6037, dated March 21, 1995.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 97-14-02, amendment 39-10059 (62 FR 35072, June 30, 1997). The existing AD applies to certain Airbus Model A300-600 series airplanes. That NPRM was published in the Federal Register on June 15, 2006 (71 FR 34563). That NPRM proposed to continue to require repetitive eddy current inspections to detect cracks of the outer skin of the fuselage at certain frames, and repair or reinforcement of the structure at the frames, if necessary. That NPRM also proposed to continue to require eventual reinforcement of the structure at certain frames, which, when accomplished, terminates the repetitive inspections. That NPRM also proposed to require, for airplanes that were previously reinforced but not repaired in accordance with the existing AD, a one-time inspection for cracking of the fuselage outer skin at frames 28A and 30A above stringer 30, and repair if necessary.

Comments

We provided the public the opportunity to participate in the development of this AD. No comments have been received on the NPRM or on the determination of the cost to the public.

Conclusion

We have carefully reviewed the available data and determined that air safety and the public interest require adopting the AD as proposed.

Costs of Compliance

This AD will affect about 53 airplanes of U.S. registry. The following table provides the estimated costs for U.S. operators to comply with this AD. The average labor rate is $80 per work hour.

Estimated Costs
Action | Work hours | Parts | Cost per airplane | Fleet cost
Inspection (required by AD 97-14-02) | 1 | None | $80, per inspection cycle | $4,240, per inspection cycle.
Reinforcement (required by AD 97-14-02) | 93 | $7,200 | $14,640 | $775,920.
Inspection (new required action) | 1 | None | $80 | $4,240.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10059 (62 FR 35072, June 30, 1997) and by adding the following new airworthiness directive (AD):

2006-19-02 Airbus: Amendment 39-14759. Docket No. FAA-2006-25047; Directorate Identifier 2006-NM-028-AD.

Effective Date

(a) This AD becomes effective October 17, 2006.

Affected ADs

(b) This AD supersedes AD 97-14-02.

Applicability

(c) This AD applies to Airbus Model A300 B4-601, B4-603, B4-620, B4-622, B4-605R, B4-622R, F4-605R, F4-622R, and C4-605R Variant F airplanes, certificated in any category, except those on which Airbus Modification 8683 has been done.

Unsafe Condition

(d) This AD results from a report that the previously required actions were not sufficient to correct cracking before the structural reinforcement was installed. We are issuing this AD to prevent fatigue cracking of the outer skin of the fuselage at certain frames, which could result in reduced structural integrity, and consequent rapid decompression of the airplane.

Compliance

(e) You are responsible for having the actions required by this AD performed within the compliance times specified, unless the actions have already been done.

Restatement of the Requirements of AD 97-14-02

(f) Prior to the accumulation of 14,100 total flight cycles, or within 12 months after August 4, 1997 (the effective date of AD 97-14-02), whichever occurs later, conduct an eddy current inspection to detect cracking of the fuselage outer skin at frames 28A and 30A above stringer 30, in accordance with the Accomplishment Instructions of Airbus Service Bulletin A300-53-6045, dated March 21, 1995, as revised by Change Notice No. O.A., dated June 1, 1995; or Airbus Service Bulletin A300-53-6045, Revision 03, dated October 28, 2004. After the effective date of this AD, only Revision 03 may be used. After the effective date of this AD, the initial eddy current inspection and all applicable repairs required by this paragraph must be done before doing the reinforcement specified in paragraph (g) of this AD.

(1) If no cracking is found, repeat the eddy current inspection thereafter at intervals not to exceed 4,500 flight cycles.

(2) If any cracking is found that is within the limits specified in the service bulletin: Prior to further flight do the actions in paragraph (f)(2)(i) or (f)(2)(ii) of this AD. After the effective date of this AD, only Airbus Service Bulletin A300-53-6045, Revision 03, dated October 28, 2004, may be used for the repair specified in paragraph (f)(2)(i) of this AD; and the reinforcement option specified in paragraph (f)(2)(ii) of this AD is not allowed in accordance with this paragraph.

(i) Repair in accordance with paragraph 2.D. of the Accomplishment Instructions of Airbus Service Bulletin A300-53-6045, dated March 21, 1995, as revised by Change Notice No. O.A., dated June 1, 1995; or paragraph 3.C. of the Accomplishment Instructions of Airbus Service Bulletin A300-53-6045, Revision 03, dated October 28, 2004. After the repair, repeat the eddy current inspection thereafter at intervals not to exceed 4,500 flight cycles.

(ii) Reinforce the structure at frames 28 and 29, and at frames 30 and 31, between stringers 29 and 30, in accordance with the Accomplishment Instructions of Airbus Service Bulletin A300-53-6037, dated March 21, 1995; or Airbus Service Bulletin A300-53-6037, Revision 02, dated October 28, 2004. Such reinforcement constitutes terminating action for the repetitive inspections required by this AD.

(3) If any cracking is found that is outside the limits specified in the service bulletin: Prior to further flight, reinforce the structure at frames 28 and 29, and at frames 30 and 31, between stringers 29 and 30, in accordance with the Accomplishment Instructions of Airbus Service Bulletin A300-53-6037, dated March 21, 1995; or Airbus Service Bulletin A300-53-6037, Revision 02, dated October 28, 2004. After the effective date of this AD, only Revision 02 may be used. Such reinforcement constitutes terminating action for the repetitive inspections required by this AD.

(g) Within 5 years after August 4, 1997: Reinforce the structure at frames 28 and 29, and at frames 30 and 31, between stringers 29 and 30, in accordance with the Accomplishment Instructions of Airbus Service Bulletin A300-53-6037, dated March 21, 1995; or Airbus Service Bulletin A300-53-6037, Revision 02, dated October 28, 2004. After the effective date of this AD, only Revision 02 may be used. Such reinforcement constitutes terminating action for the repetitive inspections required by this AD. After the effective date of this AD, the initial eddy current inspection and all applicable repairs required by paragraph (f) of this AD must be done before doing the reinforcement.

New Requirements of This AD

Inspection and Corrective Action

(h) For airplanes that meet the conditions of both paragraphs (h)(1) and (h)(2) of this AD: Within 2,400 flight cycles or 18 months after the effective date of this AD, whichever occurs first, conduct an eddy current inspection to detect cracking of the fuselage outer skin at frames 28A and 30A above stringer 30, in accordance with the Accomplishment Instructions of Airbus Service Bulletin A300-53-6045, Revision 03, dated October 28, 2004. If no cracking is found: No further action is required by this paragraph. If any cracking is found: Before further flight, repair the cracking using a method approved by either the Manager, International Branch, ANM-116, Transport Airplane Directorate, FAA; or the Direction Générale de l'Aviation Civile (DGAC) (or its delegated agent).

(1) Airplanes that were reinforced before the effective date of this AD in accordance with any service bulletin specified in Table 1 of this AD.

Table 1.—Reinforcement Service Bulletins
Airbus service bulletin | Revision level | Date
A300-53-6037 | Original | March 21, 1995.
| 1 | February 3, 1999.
| 02 | October 28, 2004.

(2) Airplanes that were not inspected and repaired in accordance with any service bulletin specified in Table 2 of this AD.

Table 2.—Inspection and Repair Service Bulletins
Airbus service bulletin | Revision level | Date
A300-53-6045 | Original | March 21, 1995.
| 01 | August 25, 1997.
| 02 | May 2, 1999.
| 03 | October 28, 2004.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-002, dated January 5, 2005, also addresses the subject of this AD.

Material Incorporated by Reference

(k) You must use the service information identified in Table 3 of this AD to perform the actions that are required by this AD, unless the AD specifies otherwise.

Table 3.—Material Incorporated by Reference
Airbus service bulletin | Revision level | Date
A300-53-6037 | Original | March 21, 1995.
A300-53-6037 | 02 | October 28, 2004.
A300-53-6045 | 03 | October 28, 2004.
A300-53-6045, as revised by Change Notice No. O.A., dated June 1, 1995 | Original | March 21, 1995.

(1) The Director of the Federal Register approved the incorporation by reference of Airbus Service Bulletin A300-53-6037, Revision 02, dated October 28, 2004; and Airbus Service Bulletin A300-53-6045, Revision 03, dated October 28, 2004; in accordance with 5 U.S.C. 552(a) and 1 CFR part 51.

(2) On August 4, 1997 (62 FR 35072, June 30, 1997), the Director of the Federal Register approved the incorporation by reference of Airbus Service Bulletin A300-53-6045, dated March 21, 1995, as revised by Change Notice No. O.A., dated June 1, 1995; and Airbus Service Bulletin A300-53-6037, dated March 21, 1995.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 1, 2006.
Kalene C. Yanamura,
Acting Manager, Transport Airplane Directorate, Aircraft Certification Service.

[FR Doc. E6-14942 Filed 9-11-06; 8:45 am]

BILLING CODE 4910-13-P